NATIONAL AERONAUTICS AND SPACE ADMINISTRATION

[Notice (15-022)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: April 1, 2015.

FOR FURTHER INFORMATION CONTACT: Edward K. Fein, Patent Counsel, Johnson Space Center, Mail Code AL, 2101 NASA Parkway, Houston, TX 77058, (281) 483-4871; (281) 483-6936 [Facsimile].

NASA Case No.: MSC-24798: Soft Decision Analyzer and Method;

NASA Case No.: MSC-25632-1: Robot Task Commander with Extensible Programming Environment;

NASA Case No.: MSC-24919-1: System and Methods for RFID-Enabled Information Collection;

NASA Case No.: MSC-25604-1: Systems and Methods for RFID-Enabled Dispenser;

NASA Case No.: MSC-25313-1: Hydrostatic Hyperbaric Apparatus and Method;

NASA Case No.: MSC-25265-1: Device and Method for Digital-to-Analog Transformation and Reconstructions of Multi-Channel Electrocardiograms;

NASA Case No.: MSC-24813-1: Preparation System and Method;

NASA Case No: MSC-25590-1: Systems and Methods for RFID-Enabled Pressure Sensing Apparatus;

NASA Case No.: MSC-25605-1: Switch Using Radio Frequency Identification;

NASA Case No.: MSC-24811-1: System and Method for Isolation of Samples;

NASA Case No. MSC-24525-1: Deployable Wireless Fresnel Lens;

NASA Case No. MSC-24541-1: Modifying the Genetic Regulation of Bone and Cartilage Cells and Associated Tissue by EMF Stimulation Fields and Uses Thereof;

NASA Case No.: MSC-24149-2: Method and Apparatus for an Inflatable Shell;

NASA Case No.: MSC-24509-1: Battery Fault Detection with Saturating Transformers;

NASA Case No.: MSC-24733-1: Pyrometer;

NASA Case No.: MSC-25026-1: Battery Cell Balancing System and Method;

NASA Case No.: MSC-23882-1: Analog Strain Gauge Conditioning System for Space Environment;

NASA Case No.: MSC-24506-1: Methods and Systems for Measurement and Estimation of Normalized Contrast in Infrared Thermography;

NASA Case No.: MSC-24346-1: Extended Range Passive Wireless Tag System and Method;

NASA Case No.: MSC-24314-1: High-Density Spot Seeding for Tissue Model Formation;

NASA Case No.: MSC-24444-1: Methods and systems for Characterization of an Anomaly Using Infrared Flash Thermography;

NASA Case No.: MSC-24541-2: Electromagnetic Time-Variance Magnetic Fields (TVMF) to Generate, and re-grow Cartilage Cells by a Noninvasive Method;

NASA Case No.: MSC-25391-1: System, Apparatus and Method for Pedal Control;

NASA Case No.: MSC-25386-1: Active Response Gravity Offload and Method;

NASA Case No.: MSC-25307-1: Microwave-Based Water Decontamination System;

NASA Case No.: MSC-25759-1: Methods, Systems and Apparatuses for Radio Frequency Identification;

NASA Case No.: MSC-25203-1: Systems and Methods for Beamforming RFID Tags;

NASA Case No.: MSC-25626-1: RFID Torque-Sensing Tag System for Fasteners;

NASA Case No.: MSC-25760-1: Methods, Systems and Apparatuses for Radio Frequency Identification;

NASA Case No.: MSC-24758-1: Methods, Systems and Apparatuses for Radio Frequency Identification;

NASA Case No.: MSC-25286-1: Pretreatment Solution for Water Recovery Systems;

NASA Case No.: MSC-25758-1: Methods, Systems and Apparatuses for Radio Frequency Identification.

Sumara M. Thompson-King,
General Counsel.

[FR Doc. 2015-07456 Filed 3-31-15; 8:45 am]

BILLING CODE 7510-13-P